DEPARTMENT OF AGRICULTURE

Forest Service

Medicine Bow-Routt Resource Advisory Committee

AGENCY: Forest Service, USDA.

ACTION: Notice of meeting.

SUMMARY: The Medicine Bow-Routt Resource Advisory Committee (RAC) will meet in Walden, Colorado. The committee is authorized under the Secure Rural Schools and Community Self-Determination Act (the Act) and operates in compliance with the Federal Advisory Committee Act. The purpose of the committee is to improve collaborative relationships and to provide advice and recommendations to the Forest Service concerning projects and funding consistent with Title II of the Act. RAC information can be found at the following Web site: http://www.fs.usda.gov/goto/mbr/advisorycommittees.

DATES: The meeting will be held on November 20, 2015, at 10:00 a.m., Mountain Standard Time.

All RAC meetings are subject to cancellation. For status of meeting prior to attendance, please contact the person listed under For Further Information Contact.

ADDRESSES: The meeting will be held at the Parks Ranger District Office, 100 Main Street, Walden, Colorado.

Written comments may be submitted as described under Supplementary Information. All comments, including names and addresses when provided, are placed in the record and are available for public inspection and copying. The public may inspect comments received at the Medicine Bow-Routt National Forest Supervisor's Office. Please call ahead to facilitate entry into the building.

FOR FURTHER INFORMATION CONTACT: Aaron Voos, RAC Coordinator, by phone at 307-745-2323 or via email at atvoos@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to:

1. Review and recommend projects authorized under Title II of the Act, and

2. Update RAC members on the progress of previously approved projects.

The meeting is open to the public. The agenda will include time for people to make oral statements of three minutes or less. Individuals wishing to make an oral statement should request in writing by November 16, 2015, to be scheduled on the agenda. Anyone who would like to bring related matters to the attention of the committee may file written statements with the committee staff before or after the meeting. Written comments and requests for time for oral comments must be sent to Dennis Jaeger, RAC Designated Federal Officer, Medicine Bow-Routt National Forest Supervisor's Office, 2468 Jackson Street, Laramie, Wyoming 82070; by email to djaeger01@fs.fed.us, or via facsimile to 307-745-2467.

Meeting Accommodations: If you are a person requiring reasonable accommodation, please make requests in advance for sign language interpreting, assistive listening devices or other reasonable accommodation for access to the facility or proceedings by contacting the person listed in the section titled FOR FURTHER INFORMATION CONTACT. All reasonable accommodation requests are managed on a case by case basis.

Dated: November 2, 2015.
Dennis Jaeger,
Forest Supervisor, Medicine Bow-Routt National Forests & Thunder Basin National Grassland.

[FR Doc. 2015-28317 Filed 11-5-15; 8:45 am]

BILLING CODE 3411-15-P